DEPARTMENT OF AGRICULTURE

Forest Service

Wallowa-Whitman National Forest, Oregon; Wallowa-Whitman National Forest Travel Management Plan

AGENCY: Forest Service, USDA.

ACTION: Notice of intent to prepare an environmental impact statement.

SUMMARY: The USDA, Forest Service will prepare an environmental impact statement to designate a portion of the National Forest roads, trails, and areas, open to public motor vehicle use on the Wallowa-Whitman National Forest (WWNF), and assign the type of use(s) and season of use allowed on each road and trail or portion thereof. Roads, trails and areas not selected for designation will be closed to public motor vehicles year round (excepting the use of over-snow vehicles). Additionally, the Wallowa-Whitman National Forest currently has 1,337,760 acres open to motorized cross country travel. These acres will be closed year round to motorized cross country travel, excluding over-snow vehicles.

DATES: Written comments concerning the proposed action should be received by June 30, 2007.

Public meeting dates are:

May 15, 2007, 6 p.m.-8:30 p.m., Baker City, Oregon

May 16, 2007, 6 p.m.-8:30 p.m., LaGrande, Oregon

May 17, 2007, 6 p.m.-8:30 p.m., Enterprise, Oregon

ADDRESSES: The meeting locations are:

Baker City, Oregon—National Guard Armory, 1740 Campbell Ave

LaGrande, Oregon—National Guard Armory, 401 12th Street

Enterprise, Oregon—Cloverleaf Hall, 668 NW First Street

Send written comments and suggestions to Wallowa-Whitman National Forest, ATTN: Travel Management Planning, 3502 Highway 30, LaGrande, OR 97850.

FOR FURTHER INFORMATION CONTACT: Jeff Stein, Interdisciplinary Team Leader, Wallowa-Whitman National Forest, Wallowa Mountains Office, 88401 Hwy 82, Box A, Enterprise, OR, Phone: (541) 426-5656.

SUPPLEMENTARY INFORMATION:

Purpose

The purpose of this action is to provide a motor vehicle transportation system for the Wallowa-Whitman National Forest to address current and anticipated needs that also offers a variety of recreation access opportunities, prohibits motorized use of designated routes and areas, balances management considerations (such as public safety and maintenance costs) with recreation opportunities and commercial uses, reduces impacts to forest resources, recognizes reserved or outstanding rights, and reduces conflicts between recreational uses.

Need

(1) Meet National Direction

The need for this action is to meet national direction as published in the Federal Register, 36 CFR Parts 212, 251, 261, 295 “Travel Management: Designated Routes and Areas for Motor Vehicle Use” (Federal Register 2005: 70FR68264) (Travel Management Rule). This rule requires designation of those roads, trails, and areas that are open to motor vehicle use. The rule prohibits the use of motor vehicles off the designated system, as well as use of motor vehicles on routes and in areas that are not consistent with the designation.

(2) Reduce Adverse Resource Impacts Caused by Road and Trail Usage in Order To Maintain and Restore the Health of Ecosystems and Watersheds

As travel on the forest increases, the impacts on resources become more pronounced. The maintenance and restoration of healthy ecosystems and watersheds can be compromised by unmanaged motorized use. Displacement of big game due to motorized use is thoroughly documented in many areas. The public and forest managers have expressed concern about the lack of ability to provide for maintenance of roads and trails. Roads in disrepair can create conflict with resource protection goals. Concern has also been expressed about those roads and trails no longer required to address public or agency needs. Off-road motorized use has resulted in unauthorized routes which create resource damage. Since unauthorized routes cannot be legally maintained, the forest cannot invest in providing corrective road and trail structures and maintenance methods that could reduce impacts to watersheds.

(3) Specify What Uses Are Allowed on Each Road, Trail and Area

As directed by the Travel Management Rule, the forest must designate the roads, trails and areas open to motorized use and specify the type of vehicle and season of use for each.

(4) More Closely Align the Travel and Recreational Opportunities Offered to the Public With the Forest's Management Capability

Unmanaged recreation has been identified by the Chief of the Forest Service as one of the top four threats to the future of the National Forest System. Code of Federal Regulations 36 CFR 212.55 requires the responsible official to consider the need for maintenance and administration of roads, trails and areas that would arise if the uses under consideration are designated, and the availability of resources for that maintenance and administration. Lack of management capability and field presence has contributed to some of the problems on the forest today. The forest needs to take definite steps to improve our field presence, reduce our management costs and focus our resources where they are most beneficial.

(5) Amend the Wallowa-Whitman National Forest Land and Resource Management Plan (Forest Plan) To Close the Forest to Motorized Use Except Where Designated Open

Currently the Forest Plan allows motorized use except where restricted in the Forest Travel Management Plan. A non-significant amendment is needed to change the current direction to closed to motorized use unless designated open.

Proposed Action

The project area boundary is defined as the area within the 2.3 million acres under the administration of the Wallowa-Whitman National Forest (WWNF) that will be considered for designated motorized routes and areas in this project. Of those acres, the following will not be part of this proposed action for the reasons provided below:

• Wilderness Areas—590,043 acres—Congressionally mandated non-motorized.

• Municipal Watershed (Baker City and LaGrande)—23,889 acres—Intergovernmental agreements regulating motorized use to protect water quality are in place.

• Hells Canyon National Recreation Area in Oregon and Idaho—244,139 (excluding wilderness), Bald Angel, Sled Springs, and South Fork Burnt River Closure Areas—121,951 acres—Current travel analyses and decisions are in place that meet the intent and direction of the Travel Management Rule.

The baseline network of potential designated routes and areas used to develop the Proposed Action is a reflection of the travel management decisions made over the last 17 years during site-specific project planning on the Forest. These site-specific plans have resulted in a network of Maintenance Level (ML) 1-5 roads and motorized trails. Maintenance levels define the service provided by and maintenance required for a specific road and are described as follows:

1—Basic custodial care (Closed roads).

2—High Clearance Vehicles—rugged surface, not maintained for passenger vehicles.

3—Passenger Vehicles—surface not smooth, typically slow speed, single lane with turnouts and spot surfacing.

4—Passenger Vehicles—smooth surface, moderate degree of user comfort and convenience at moderate speeds. Most roads double lane with aggregate.

5—Passenger Vehicles—smooth surface, dust free, possibly paved, high degree of user comfort and convience. Usually double lane.

The Proposed Action focuses on existing roads and trails. Specific elements of the Proposed Action are as follows:

Roads:

Motorized use would be permitted on maintenance Level 2-5 (currently open) roads. In general, ML 2-3 are available for all off highway vehicles (ATV's and motorcycles, including street legal) and ML 2-5 are available for full sized vehicles and street legal motorcycles. No use would be permitted on ML 1 (closed) roads whether physically closed/barricaded or not. Some ML 1 (closed) roads are scheduled for physical closures; however, they have not been implemented on the ground due to lack of funds. These roads would not be designated routes in the Proposal Action and would be physically closed in the future as funds became available. No user created routes are part of the designated routes in the Proposed Action.

A total of 3,570 miles of ML 2-5 roads in the project area would be available for motorized use in the Proposed Action. No ML 1 roads would be available for motorized use.

Motorized Trails

Motorized use would be permitted on all officially designated motorized trails which are shown as a designated route on the designated route map. The existing system has been constructed in a resource sensitive manner that provides good riding experiences and access for the users. This system has been derived from a series of site specific planning endeavors over the last 17 years. No new trail construction or non-sanctioned user created trails are a part of the designated routes in the Proposed Action.

A total of approximately 120 miles of motorized trails in the project area would be available for motorized use as a part of the Proposed Action designated route network. These networks are scattered across the WWNF and some tie into established trail networks on other National Forests.

Cross Country Motorized Use

This proposal would close all motorized cross country travel and all roads not designated as motorized routes. Off-routes access would be permitted for 300 feet on either side of designated motorized routes to accommodate access to and from dispersed campsites only. Motorized use beyond those limits would be subject to citations and fines by law enforcement. No motor vehicle use for big game retrieval off of designated routes, trails or areas would be permitted.

Closure Areas

Year round closure areas within the project area boundary would operate under their current closure restrictions as shown in the Code of Federal Regulations applicable to the WWNF. Current seasonal closure areas within the project area boundary would operate under their current closure/designated route requirements for their closure period, however, outside of the closure period they would have designated routes for motorized use as described on the designated route map in the project area.

Designated Route Totals in the Project Area

ML 2—3,340 miles

ML 3—160 miles

ML 4—0 miles

ML 5—72 miles

Total Designated Motorized routes (Roads) ML 2-5—3,572 miles

Total Motorized Trails—120 miles

Total Designated Motorized routes Available to Off-Highway Vehicles—3,620 miles

Designated route maps are posted on the WWNF Web site at: http://www.fs.fed.us/r6/w-w/recreation/ohv/index.shtml, or contact the Travel Management Team via e-mail: wwnf_travel_mgmt_plan@fs.fed.us, or write to Travel Management Planning at the address given under ADDRESSES above.

Forest Plan Amendment

As a part of the Forest Travel Management Plan project, the Wallowa-Whitman National Forest Plan would be amended to include changes to the two sections outlined below.

Section 1: Transportation System Standard

Current Direction: 21. All-Terrain and Off-Road Vehicles. Permit all-terrain vehicle (ATV) use and over-the-snow vehicle use on blocked or closed roads unless this use is found to be incompatible with resource management objectives. These types of uses are generally felt to be an acceptable form of recreation except where site specific analysis shows them to be incompatible due to resource management problems. This determination will be made through the Forest Travel Management Plan.

Amended Direction: 21. All-Terrain and Off-Road Vehicles. Permit all-terrain vehicle (ATV) and off-road vehicle use only on routes designated under the Forest Travel Management Plan as depicted on the Forest Motor Vehicle Use Map (MVUM). Use will not be permitted on routes not designated on the MVUM. Snowmobile use is permitted on blocked or closed roads unless this use is found to be incompatible with resource management objectives. These types of uses are generally felt to be an acceptable form of recreation except where site specific analysis shows them to be incompatible due to resource management problems. This determination will be made through the Forest Travel Management Plan.

Section 2: Recreation Standard

Current Direction: 15. Road, Trail, and Area Closures. Road, trail, and area closures and off-road vehicle use will be in accordance with the Forest Travel Management Plan and 36 CFR 295. This plan will be reviewed annually and revised as necessary, considering management needs and public desires.

Amended Direction: 15. Road, Trail, and Areas Open to Motorized Use. Roads, trails, and areas open to motorized use will be designated as to type of vehicle and season of use on a Motor Vehicle Use Map (MVUM), in accordance with 36 CFR Parts 212, 251, 261, and 295. The MVUM will be reviewed annually and revised as necessary, balancing management considerations, (such as public safety and maintenance costs) with recreation opportunities and commercial uses.

The following uses are not affected by this decision and are outside the scope of this project: (1) Over-snow vehicles; (2) aircraft; (3) watercraft; (4) non-motorized uses (e.g. hiking, equestrian, mountain bikes); (5) search and rescue operations; (6) firefighting operations and other emergency incident operations; (7) law enforcement operations; (8) permitted uses (e.g. woodcutting, livestock herding/fence maintenance); (9) limited administrative access; (10) legal ingress and egress to private land; (11) new or non-national forest roads and trails (user-created), and (12) use of roads with legally documented rights of way held by state, county, or other public road authority.

Responsible Official

The forest Supervisor, Steven A. Ellis, will be the responsible official for making the decision and providing direction for the analysis.

Nature of Decision To Be Made

As directed by the Travel Management Rule, the forest must designate the roads, trails and areas open to motorized use on the Wallowa-Whitman National Forest and specify the type of vehicle and season of use for each.

The responsible official will decide whether or not to amend the Wallowa-Whitman National Forest Plan to close the forest to cross country travel except in areas designated open. The responsible official will also decide whether or not to select the proposed action as stated or modified, or to select an alternative to it, any mitigation measures needed and any monitoring that may be required.

Scoping Process

This notice of intent begins the scoping process in the development of the environmental impact statement. Public participation is especially important at several points during the development of the EIS. The Forest Service is seeking information, comments, and coordination with the Federal, State, and local agencies and tribal governments and individuals or organizations who may be interested in or affected by the proposed action. The public is asked to provide the responsible official with written comments describing their concerns about this project. The most useful comments to developing or refining the proposed action would be site specific concerns and those that can help develop a travel management plan for the Wallowa-Whiteman National Forest that meets the Purpose and Need for Action. See ADDRESSES above for the mailing address for written comments. Electronic comments can be mailed to: wwnf_travel_mgt_plan@fs.fed.us. Electronic comments must be submitted as part of the actual e-mail message, or as an attachment in Misrosoft word, rich text format or portable document format only. E-mails submitted to e-mail addresses other than the one listed above or in other formats than those listed or containing viruses will be rejected.

Early Notice of Importance of Public Participation in Subsequent Environmental Review

The deaf environmental impact statement is expected to be filed with the Environmental Protection Agency (EPA) and to be available to the public for review by March 2008. EPA will publish a notice of availability of the draft EIS in the Federal Register. The comment period on the draft EIS will extend 45 days from the date the EPA notice appears in the Federal Register. At that time, copies of the draft EIS will be distributed to interested and affected agencies, organizations, and members of the public for their review and comment. It is very important that those interested in the management of the Wallowa-Whitman National Forest participate at that time.

The final EIS is scheduled to be completed in November 2008. In the final EIS, the Forest Service is required to respond to substantive comments received during the comment period that pertain to the environmental consequences discussed in the draft EIS and applicable laws, regulations, and policies considered in making the decision regarding travel management. To assist the Forest Service in identifying and considering issues and concerns on the proposed action, comments on the draft environmental impact statement should be as specific as possible. It is helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points. Substantive comments are defined as “comments within the scope of the proposed action, specific to the proposed action, and have a direct relationship to the proposed action, and include supporting reasons for the Responsible Official to consider (36 CFR 215.2). Submission of substantive comments is a prerequisite for eligibility to appeal under the 36 CFR part 215 regulations.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

Comments received, including the names and addresses of those who comment, will be considered part of the public record on this proposal and will be available for public inspection.

(Authority: 40 CFR 1501.7 and 1508.22; Forest Service Handbook 1909.15, Section 21)

Dated: April 27, 2007.
Steven A. Ellis,
Wallowa-Whitman National Forest Supervisor.

[FR Doc. 07-2178 Filed 5-2-07; 8:45 am]

BILLING CODE 3410-11-M